DEPARTMENT OF TRANSPORTATION

National Highway Traffic Safety Administration

49 CFR Part 571

[Docket No. NHTSA-00-7144]

RIN 2127-AG55

Federal Motor Vehicle Safety Standards; FMVSS 101—Technical Correction—Speedometer Display

AGENCY: National Highway Traffic Safety Administration (NHTSA), DOT.

ACTION: Final rule.

SUMMARY: This technical amendment corrects an error in Table 2 of Federal Motor Vehicle Safety Standard 101 as a result of a final rule published September 24, 1998. In that notice the agency adopted language for the speedometer display as “MPH and/or km/h”. The effect of this language is to allow speedometers labeled in miles per hour (MPH) alone, kilometers per hour (km/h) alone, or both miles and kilometers per hour. The intent was to require speedometer display in miles per hour, and to allow the addition of kilometers per hour at the option of the manufacturer. This amendment changes the language of Table 2 to “MPH, or MPH and km/h”.

DATES: This final rule is effective February 15, 2001. Optional early compliance with the change made in this final rule is permitted beginning May 15, 2000.

ADDRESSES: Petitions for reconsideration of this final rule should refer to the docket number cited in the heading of this final rule and be submitted to: Administrator, National Highway Traffic Safety Administration, 400 Seventh St, SW, Washington, DC 20590. It is requested, but not required, that ten copies be submitted.

FOR FURTHER INFORMATION CONTACT: Gayle Dalrymple, NPS-23, Office of Safety Performance Standards, National Highway Traffic Safety Administration, 400 Seventh Street, SW, Washington, DC 20590. Ms. Dalrymple can be reached by phone at (202) 366-5559 or by facsimile at (202) 366-4329.

SUPPLEMENTARY INFORMATION: On May 27, 1998, NHTSA published a final rule amending selected Federal Motor Vehicle Safety Standards (FMVSS) by converting English measurements specified in those standards to metric measurements. On September 24, 1998, the agency published a technical amendment and response to petition for reconsideration stemming from the May notice. In the September notice, the agency responded to a comment from Ford Motor Company stating that, in Ford's view, the label “MPH km/h” in Column 3 of Table 2 under “Speedometer” in FMVSS 101 required both English and metric units to be displayed on the speedometer. The intent of the standard is to require speedometer display in miles per hour (MPH), and to allow the addition of kilometers per hour (km/h) to MPH at the option of the manufacturer. Ford recommended that “MPH km/h” be changed to “MPH and/or km/h”. The agency adopted this text for the Speedometer display in Table 2 of FMVSS 101 with the September 24, 1998, notice. We have become aware that the new language, “MPH and/or km/h”, could be interpreted to mean that speedometers labeled in kilometers per hour alone are acceptable. It was obviously not our intent to allow speedometers graduated in km/h only, which would be useless for drivers in the U.S., where speed limits are communicated in MPH alone. We do not believe that Ford intended such an outcome either. Therefore, today's technical amendment changes the language of the Speedometer display required by FMVSS 101 to “MPH, or MPH and km/h”. This provision is consistent with the requirements of FMVSS 101 which were in effect from 1982 to 1998.

Regulatory Impacts

A. Executive Order 12866 and DOT Regulatory Policies and Procedures

NHTSA has examined the impact of this rulemaking action under E.O. 12866 and the Department of Transportation's regulatory policies and procedures. This rulemaking document was not reviewed under E.O. 12866, “Regulatory Planning and Review.” This action has been determined to be not “significant” under DOT's regulatory policies and procedures.

In converting the Federal Motor Vehicle Safety Standards from the English to the metric measurement system, the agency has made conversions in a way that does not substantively change the performance requirements of the FMVSSs. In this final rule, NHTSA makes corrections to an error that appeared in the September 24,1998, final rule. NHTSA does not believe motor vehicle manufacturers will incur any additional costs as a result of the final rule. The impacts of this action are so minor that a full regulatory evaluation has not been prepared.

B. Regulatory Flexibility Act

The agency has also considered the effects of this rulemaking action under the Regulatory Flexibility Act (5 U.S.C. 601 et seq.). I certify that this final rule will not have a significant economic impact on a substantial number of small entities. The rationale for this certification is that this final rule makes no substantive changes to any Federal Motor Vehicle Safety Standards, and is limited to correcting a typographical error in the September 24, 1998, final rule that amended the Federal Motor Vehicle Safety Standards.

C. Environmental Impacts

In accordance with the National Environmental Policy Act of 1969, the agency has considered the environmental impacts of this rulemaking action and determined that as a final rule, it would not have a significant impact on the quality of the human environment.

D. Federalism

This action has been analyzed in accordance with the principles and criteria contained in Executive Order 12612, and it has been determined that the final rule does not have sufficient federalism implications to warrant the preparation of a Federalism Assessment.

E. Civil Justice Reform

This rule will not have a retroactive effect. Under Section 103(d) of the National Traffic and Motor Vehicle Safety Act (15 U.S.C. 1392(d)), whenever a Federal motor vehicle safety standard is in effect, a state may not adopt or maintain a safety standard applicable to the same aspect of performance which is not identical to the Federal standard. Section 105 of the Act (15 U.S.C. 1394) sets forth a procedure for judicial review of final rules establishing, amending or revoking Federal motor vehicle safety standards. That section does not require submission of a petition for reconsideration or other administrative proceedings before parties may file suit in court.

F. Unfunded Mandates Reform Act of 1995

The Unfunded Mandates Reform Act of 1995 (Pub. L. 104-4) requires agencies to prepare a written assessment of the cost, benefits and other effects of proposed or final rules that include a Federal mandate likely to result in the expenditure by State, local, or tribal governments, in the aggregate, or by the private sector, of more than $100 million annually. Because this final rule does not have a $100 million effect, no Unfunded Mandates assessment has been prepared.

List of Subjects in 49 CFR Part 571

Imports, Motor vehicle safety, Motor vehicles.

In consideration of the foregoing, the Federal Motor Vehicle Safety Standards (49 CFR Part 571), are amended as set forth below.

PART 571—FEDERAL MOTOR VEHICLE SAFETY STANDARDS

1. The authority citation for part 571 continues to read as follows:

Authority: 49 U.S.C. 322, 30111, 30115, 30117, and 30166; delegation of authority at 49 CFR 1.50.

2. Section 571.101 is amended by revising S5 to read as follows:

§ 571.101 Standard No. 101, Controls and displays.

* * * * *

S5 Requirements. Each passenger car, multipurpose passenger vehicle, truck and bus manufactured with any control listed in S5.1 or in column 1 of Table 1, and each passenger car, multipurpose passenger vehicle and truck or bus less than 4,536 kg. GVWR with any display listed in S5.1 or in column 1 of Table 2, shall meet the requirements of this standard for the location, identification, and illumination of such control or display.

* * * * *

BILLING CODE 4910-59-P

3. Section 571.101 is amended by revising Table 2 following S6. to read as follows:

BILLING CODE 4910-59-C

Issued on: May 2, 2000.
Stephen R. Kratzke,
Associate Administrator for Performance Safety Standards.

[FR Doc. 00-11493 Filed 5-12-00; 8:45 am]

BILLING CODE 4910-59-P